DEPARTMENT OF TRANSPORTATION

Federal Aviation Administration

14 CFR Part 39

[Docket No. 2002-SW-28-AD; Amendment 39-12885; AD 2002-19-05]

RIN 2120-AA64

Airworthiness Directives; Bell Helicopter Textron, Inc. Model 212 Helicopters

AGENCY: Federal Aviation Administration, DOT.

ACTION: Final rule.

SUMMARY: This amendment supersedes an existing airworthiness directive (AD) for Bell Helicopter Textron, Inc. (BHTI) Model 212 helicopters that currently requires, at specified intervals, inspecting for a cracked tail boom and replacing any cracked tail boom. That AD also requires modifying the tail fin and tail boom within 100 hours time-in-service (TIS). This amendment requires modifying and visually inspecting certain vertical fin left-hand spar caps for cracking, loose fasteners, corrosion, or disbonding. If corrosion or loose fasteners are found, this AD requires repairing the vertical fin left-hand spar cap (spar cap) and if a crack or disbonding is found, replacing any cracked or disbonded part with an airworthy part. This AD also requires replacing certain spar caps within 24 months. This AD is prompted by an accident and four failures of the spar cap involving helicopters of similar type design. The actions specified by this AD are intended to prevent failure of a vertical fin spar, loss of a tail rotor, and subsequent loss of control of the helicopter.

DATES: Effective October 30, 2002.

The incorporation by reference of certain publications listed in the regulations is approved by the Director of the Federal Register as of October 30, 2002.

ADDRESSES: The service information referenced in this AD may be obtained from Bell Helicopter Textron, Inc., P.O. Box 482, Fort Worth, Texas 76101, telephone (817) 280-3391, fax (817) 280-6466. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Charles Harrison, Aviation Safety Engineer, FAA, Rotorcraft Directorate, Rotorcraft Standards Staff, Fort Worth, Texas 76193-0110, telephone (817) 222-5128, fax (817) 222-5961.

SUPPLEMENTARY INFORMATION: A proposal to amend 14 CFR part 39 by superseding AD 74-08-03, Amendment 39-1806 (39 FR 12245, April 4, 1974) for Bell Model 212 helicopters was published in the Federal Register on June 28, 2002 (67 FR 43572). That action proposed to require, at specified intervals, modifying and visually inspecting certain spar caps and also modifying and inspecting using a tap hammer and by dye-penetrant, respectively, each affected spar cap for a crack, loose fastener, corrosion, or disbond. That action also proposed to require, before further flight, repairing any loose fastener or corrosion and replacing any disbonded or cracked part with an airworthy part and within 24 months, replacing affected spar caps with the cold expansion spar cap.

Interested persons have been afforded an opportunity to participate in the making of this amendment. No comments were received on the proposal or the FAA's determination of the cost to the public. The FAA has determined that air safety and the public interest require the adoption of the rule as proposed.

The FAA estimates that this AD will affect 240 helicopters of U.S. registry, that it will take approximately 4 work hours to modify and 180 work hours to inspect each spar cap and that the average labor rate is $60 per work hour. Required parts will cost approximately $1,369. Based on these figures, the total cost impact of the AD on U.S. operators is estimated to be $2,978,160.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-1806 (39 FR 12245, April 4, 1974) and by adding a new airworthiness directive (AD), Amendment 39-12885, to read as follows:

2002-19-05 Bell Helicopter Textron, Inc.: Amendment 39-12885. Docket No. 2002-SW-28-AD. Supersedes AD 74-08-03, Amendment 39-1806, Docket No. 73-SW-80.

Applicability: Model 212 helicopters, with a vertical fin spar cap, part number (P/N) 212-030-125-001, with retrofit kit, P/N 212-704-087, installed; vertical fin left-hand spar cap (spar cap), P/N 212-030-125-001, without the retrofit kit installed; or spar cap, P/N 212-030-447-001 or P/N 212-030-447-101, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (e) of this AD. The request should include an assessment of the effect of the modification, alteration, or repair on the unsafe condition addressed by this AD; and if the unsafe condition has not been eliminated, the request should include specific proposed actions to address it.

Compliance: Required as indicated.

To prevent failure of a vertical fin spar, loss of a tail rotor, and subsequent loss of control of the helicopter, accomplish the following:

(a) Within 25 hours time-in-service (TIS), unless accomplished previously, modify and visually inspect each spar cap, P/N 212-030-125-001, not modified by retrofit kit, P/N 212-704-087 or spar cap, P/N 212-030-447-001, for a crack, loose fasteners, or corrosion in accordance with Part I (A1), paragraphs 1., 2., 3., 4., 6., and 7., of Bell Helicopter Textron Alert Service Bulletin No. 212-00-110, Revision A, dated February 15, 2001 (ASB). Thereafter, at intervals not to exceed 8 hours TIS, visually inspect each affected spar cap in accordance with Part I (A2), paragraphs 1., 2., 3., 5., and 6., of the ASB.

(1) Before further flight, repair any loose fastener or corrosion.

(2) Before further flight, replace any cracked or disbonded spar cap with an airworthy spar cap.

(b) For each spar cap, P/N 212-030-125-001, modified by retrofit kit, P/N 212-704-087, or spar cap, P/N 212-030-447-101:

(1) Within 25 hours TIS, unless accomplished previously, modify and inspect each spar cap for a crack, loose fastener, corrosion, or disbonding in accordance with Part II (A1), paragraphs 1., 2., 3., 4., 5., 7., 8., 9., and 10., of the ASB, except you are not required to contact BHTI. Thereafter, at intervals not to exceed 8 hours TIS, visually inspect each affected spar cap in accordance with Part II (A2), paragraphs 1., 2., 3., 5., and 6., of the ASB.

(2) Within 50 hours TIS, unless accomplished previously, and thereafter at intervals not to exceed 300 hours TIS, inspect each spar cap for disbonding using a hammer in accordance with Part II (B), paragraphs 1. through 13., of the ASB.

(3) Within 50 hours TIS, unless accomplished previously, modify the vertical fin, and dye-penetrant inspect each spar cap in accordance with Part II (C1), paragraphs 1. through 8. and 10. through 12., of the ASB. Thereafter, at intervals not to exceed 300 hours TIS, dye-penetrant inspect each spar cap in accordance with Part II (C2), paragraphs 1. through 9. and 11. through 14., of the ASB.

Note 2: The dye-penetrant inspection is addressed in paragraph 6-2 of the Standard Practices Manual, BHT-ALL-SPM, dated October 11, 1996.

(4) Before further flight, repair any loose fasteners or corrosion.

(5) Before further flight, replace any cracked or disbonded spar cap with an airworthy spar cap.

(c) Within 24 months, replace each affected spar cap with a cold expansion spar cap, P/N 212-030-447-117S, in accordance with the Accomplishment Instructions, paragraphs 1. through 35. and 37., and Attachments A, B, and C of Bell Helicopter Textron Technical Bulletin No. 212-00-184, Revision A, dated April 23, 2001.

Note 3: This AD does not apply to tailbooms with spar cap, P/N 212-030-447-117 or “117S, already installed, that used the cold-expanded fastener installation process.

(d) Replacing each spar cap in accordance with the requirements of this AD is terminating action for the requirements of this AD.

(e) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 4: Information concerning the existence of approved alternative methods of compliance with this AD, if any, may be obtained from the Regulations Group.

(f) Special flight permits may be issued in accordance 14 CFR 21.197 and 21.199 to operate the helicopter to a location where the requirements of this AD can be accomplished.

(g) The modification and visual inspections shall be done in accordance with Part I (A1), paragraphs 1., 2., 3., 4., 6., and 7.; Part I (A2), paragraphs 1., 2., 3., 5., and 6., Part II (A1), paragraphs 1., 2., 3., 4., 5., 7., 8., 9., and 10., Part II (A2), paragraphs 1., 2., 3., 5., and 6.; and Part II (B), paragraphs 1. through 13. The modification and dye-penetrant inspections shall be done in accordance with Part II (C1), paragraphs 1. through 8. and 10. through 12. and Part II (C2), paragraphs 1. through 9., and 11. through 14., of Bell Helicopter Textron Alert Service Bulletin No. 212-00-110, Revision A, dated February 15, 2001. The replacement of the spar cap shall be done in accordance with the Accomplishment Instructions, paragraphs 1. through 35. and .37 and Attachments A, B, and C of Bell Helicopter Textron Technical Bulletin No. 212-00-184, Revision A, dated April 23, 2001. This incorporation by reference was approved by the Director of the Federal Register in accordance with 5 U.S.C. 552(a) and 1 CFR part 51. Copies may be obtained from Bell Helicopter Textron, Inc., P.O. Box 482, Fort Worth, Texas 76101, telephone (817) 280-3391, fax (817) 280-6466. Copies may be inspected at the FAA, Office of the Regional Counsel, Southwest Region, 2601 Meacham Blvd., Room 663, Fort Worth, Texas; or at the Office of the Federal Register, 800 North Capitol Street, NW., suite 700, Washington, DC.

(h) This amendment becomes effective on October 30, 2002.

Issued in Fort Worth, Texas, on September 13, 2002.
Eric Bries,
Acting Manager, Rotorcraft Directorate, Aircraft Certification Service.

[FR Doc. 02-24180 Filed 9-24-02; 8:45 am]

BILLING CODE 4910-13-P